DEPARTMENT OF COMMERCE

International Trade Administration

[A-580-890]

Emulsion Styrene-Butadiene Rubber From Republic of Korea: Final Results of Antidumping Duty Administrative Review; 2017-2018

AGENCY: Enforcement and Compliance, International Trade Administration, Department of Commerce.

SUMMARY: The Department of Commerce (Commerce) finds that the producers/exporters subject to this administrative review made sales of emulsion styrene-butadiene rubber (ESB rubber) from the Republic of Korea (Korea) at less than normal value during the period of review (POR) February 24, 2017 through August 31, 2018.

DATES: Applicable July 14, 2020.

FOR FURTHER INFORMATION CONTACT: Eliza Siordia, AD/CVD Operations, Office V, Enforcement and Compliance, International Trade Administration, U.S. Department of Commerce, 1401 Constitution Avenue NW, Washington, DC 20230; telephone: (202) 482-3878.

SUPPLEMENTARY INFORMATION:

Background

This review covers seven producers and/or exporters of the subject merchandise. Commerce selected one mandatory respondent for individual examination: LG Chem, Ltd. (LG Chem). The producers/exporters which were not selected for individual examination are listed in the “Final Results of the Administrative Review” section of this notice.

On November 15, 2018, we published our initiation of an administrative review of the antidumping duty order on ESB rubber from Korea.¹ On November 26, 2019, we published the Preliminary Results of this administrative review.² On December 30, 2019, Lion Elastomers, LLC (the petitioner) submitted a case brief.³ On January 6, 2020, LG Chem submitted a rebuttal brief.⁴

¹ See Initiation of Antidumping and Countervailing Duty Administrative Reviews, 83 FR 57411 (November 15, 2018).

² See Emulsion Styrene-Butadiene Rubber from the Republic of Korea: Preliminary Results of Antidumping Duty Administrative Review; 2017-2018, 84 FR 65114 (November 26, 2019) (Preliminary Results), and accompanying Preliminary Decision Memorandum (PDM).

³ See Petitioner's Letter, “Case Brief,” dated December 30, 2019.

⁴ See LG Chem's Letter, “LG Chem's Rebuttal Brief,” dated January 6, 2020; see also LG Chem's Letter, “Errata to LG Chem's Rebuttal Brief,” dated January 7, 2020.

On March 2, 2020, we extended the deadline for the final results of this review to May 21, 2020.⁵ On April 24, 2020, Commerce tolled all deadlines in administrative reviews by 50 days, thereby extending the deadline for these final results until July 10, 2020.⁶ Commerce conducted this administrative review in accordance with section 751 of the Tariff Act of 1930, as amended (the Act).

⁵ See Memorandum, “Emulsion Styrene-Butadiene Rubber from the Republic of Korea: Extension of Deadline for Final Results of Antidumping Duty Administrative Review, 2017-2018,” dated March 2, 2020.

⁶ See Memorandum, “Tolling of Deadlines for Antidumping and Countervailing Duty Administrative Reviews in Response to Operational Adjustments Due to COVID-19,” dated April 24, 2020.

Scope of the Order

The merchandise covered by this order is cold-polymerized emulsion styrene-butadiene rubber.⁷ The subject merchandise is currently classifiable under subheadings 4002.19.0015 and 4002.19.0019 of the Harmonized Tariff Schedule of the United States (HTSUS). Although the HTSUS subheadings are provided for convenience and customs purposes, the written description of the scope of the order is dispositive.

⁷ For a full description of the scope, see Memorandum, “Decision Memorandum for the Final Results of the Administrative Review of the Antidumping Duty Order: Emulsion Styrene-Butadiene Rubber from the Republic of Korea; 2017-2018,” dated concurrently with, and hereby adopted by, this notice (Issues and Decision Memorandum).

Analysis of Comments Received

All issues raised by the parties in their case and rebuttal briefs are listed in the appendix to this notice and are addressed in the Issues and Decision Memorandum. The Issues and Decision Memorandum is a public document and is on-file electronically via Enforcement and Compliance's Antidumping and Countervailing Duty Centralized Electronic Service System (ACCESS). ACCESS is available to registered users at https://access.trade.gov. In addition, a complete version of the Issues and Decision Memorandum can be accessed directly at http://enforcement.trade.gov/frn/. The signed Issues and Decision Memorandum and the electronic version of the Issues and Decision Memorandum are identical in content.

Changes to the Preliminary Results

In the Preliminary Results, we found that LG Chem was entitled to a constructed export price (CEP) offset.⁸ After further review, we find that a CEP offset is not warranted for LG Chem.⁹ Additionally, we have incorporated several minor changes in the margin program.¹⁰ For a discussion of the above-referenced changes, see the “Changes to the Preliminary Results” section of the Issues and Decision Memorandum.

⁸ See PDM at VII.C.

⁹ See Issues and Decision Memorandum at Comment 1.

¹⁰ See Memorandum, “Final Results Analysis Memorandum for LG Chem, Ltd.,” dated concurrently with this notice.

Rates for Non-Examined Companies

As a result of this review, we calculated a weighted-average dumping margin for LG Chem. Accordingly, Commerce has assigned to the companies not selected for individual examination the margin calculated for LG Chem.

Final Results of the Administrative Review

The weighted-average dumping margins for the final results of this administrative review are as follows:

Exporter/producer | Weighted- average dumping margin (percent)
LG Chem, Ltd | 4.19
Daewoo International Corporation ¹¹ | 4.19
Kumho Petrochemical Co. Ltd | 4.19
Sungsan International Co, Ltd | 4.19
WE International Co., Ltd | 4.19
Kukje Trading Corp | 4.19
Hyundai Glovis Co., Ltd | 4.19

Disclosure

¹¹ We note that in the Initiation Notice, we spelled the name of Daewoo International Corporation as “Daewoo International Corporatin.” However, the spelling should have been “Daewoo International Corporation.” See Lion Elastomers LLC's Letter, “Antidumping Duty Order on Emulsion Styrene Butadiene Rubber from Korea (A-580-890): Request for First Administrative Review,” dated September 28, 2018.

We will disclose to interested parties the calculations performed in connection with these final results within five days of the publication of this notice, consistent with 19 CFR 351.224(b).

Assessment Rate

Pursuant to section 751(a)(2)(C) of the Act, and 19 CFR 212(b)(1), Commerce will determine, and U.S. Customs and Border Protection (CBP) shall assess, antidumping duties on all appropriate entries of subject merchandise in accordance with the final results of this review.

For LG Chem, because its weighted-average dumping margin is not zero or de minimis (i.e., less than 0.5 percent), Commerce has calculated importer-specific antidumping duty assessment rates. We calculated importer-specific antidumping duty assessment rates by aggregating the total amount of dumping calculated for the examined sales of each importer and dividing each of these amounts by the total sales value associated with those sales. We will instruct CBP to assess antidumping duties on all appropriate entries covered by this review where an importer-specific assessment rate is not zero or de minimis. Pursuant to 19 CFR 351.106(c)(2), we will instruct CBP to liquidate without regard to antidumping duties any entries for which the importer-specific assessment rate is zero or de minimis.

Consistent with Commerce's assessment practice, for entries of subject merchandise during the POR produced by LG Chem, for which LG Chem did not know that the merchandise was destined for the United States, we will instruct CBP to liquidate unreviewed entries at the all-others rate if there is no rate for the intermediate company(ies) involved in the transaction.¹²

¹² For a full discussion of this practice, see Antidumping and Countervailing Duty Proceedings: Assessment of Antidumping Duties, 68 FR 23954 (May 6, 2003).

For the companies which were not selected for individual review, we will assign an assessment rate equal to LG Chem's dumping margin identified above.¹³ The final results of this review shall be the basis for the assessment of antidumping duties on entries of merchandise covered by the final results of this review and for future deposits of estimated duties, where applicable.¹⁴

¹³ The Act does not specify how to calculate a dumping margin for a respondent that is not selected for individual review in an administrative review. Therefore, we look to section 735(c)(5)(A) of the Act, which explains how to calculate the “all others” rate in an investigation, for guidance. Consistent with how we would calculate the “all others” rate in an investigation, we are basing the dumping margin for non-selected companies on the weighted-average dumping margin calculated for the selected respondent, LG Chem.

¹⁴ See section 751(a)(2)(C) of the Act.

Commerce intends to issue assessment instructions to CBP 15 days after the date of publication of these final results of review.

Cash Deposit Requirements

The following cash deposit requirements will be effective upon publication of the notice of final results of administrative review for all shipments of the subject merchandise entered, or withdrawn from warehouse, for consumption on or after the publication date of the final results of this administrative review, as provided by section 751(a)(2)(C) of the Act: (1) The cash deposit rate for each specific company listed above will be equal to the rate established in the final results of this administrative review; (2) for merchandise exported by producers or exporters not covered in this administrative review but covered in a prior segment of the proceeding, the cash deposit rate will continue to be the company-specific rate published for the most recently-completed segment of this proceeding; (3) if the exporter is not a firm covered in this review, a prior review, or the original investigation, but the producer is, then the cash deposit rate will be the rate established for the most recently-completed segment of this proceeding for the producer of the subject merchandise; and (4) the cash deposit rate for all other producers or exporters will continue to be 9.66 percent, the all-others rate established in the investigation.¹⁵ These cash deposit requirements, when imposed, shall remain in effect until further notice.

¹⁵ See Emulsion Styrene-Butadiene Rubber from the Republic of Korea: Final Affirmative Determination of Sales at Less Than Fair Value, and Final Affirmative Determination of Critical Circumstances, in Part, 82 FR 33045 (July 19, 2017).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act and 19 CFR 351.221(b)(5). Note that Commerce has temporarily modified certain of its requirements for serving documents containing business proprietary information, until July 17, 2020, unless extended.¹⁶

¹⁶ See Temporary Rule Modifying AD/CVD Service Requirements Due to COVID-19; Extension of Effective Period, 85 FR 29615 (May 18, 2020).

Dated: July 8, 2020.
Jeffrey I. Kessler,
Assistant Secretary, for Enforcement and Compliance.

Appendix

List of Topics Discussed in the Issues and Decision Memorandum

I. Summary

II. Background

III. Scope of the Order

IV. Changes to the Preliminary Results

V. Discussion of the Issues

Comment 1: Constructed Export Price (CEP) Offset Treatment

Comment 2: Cost of Production (COP) Adjustment

Comment 3: Value Added Tax (VAT) Adjustment

VI. Recommendation

[FR Doc. 2020-15153 Filed 7-13-20; 8:45 am]

BILLING CODE 3510-DS-P